FEDERAL COMMUNICATIONS COMMISSION

47 CFR Part 73

[DA 10-275; MB Docket No. 09-187; RM-11576]

FM Table of Allotments, Buffalo and Centerville, Texas

AGENCY: Federal Communications Commission.

ACTION: Final rule.

SUMMARY: The Audio Division grants a rulemaking petition filed by Kaherine Pyeatt, the permittee of Station KKLB(FM), Madisonville, Texas, to substitute FM Channel 278A for vacant Channel 299A at Buffalo, Texas, and Channel 267A for vacant Channel 278A at Centerville, Texas.

DATES: Effective April 5, 2010.

ADDRESSES: Federal Communications Commission, 445 12th Street, SW., Washington, DC 20554.

FOR FURTHER INFORMATION CONTACT: Andrew J. Rhodes, Media Bureau, (202) 418-2180.

SUPPLEMENTARY INFORMATION: This is a summary of the Commission's Report and Order, MB Docket No. 09-187, adopted February 17, 2010, and released February 19, 2010. The full text of this Commission document is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, 800-378-3160 or via the company's Web site, <http://www.bcpiweb.com>.

The Notice of Proposed Rule Making stated that Pyeatt's rulemaking petition was filed as part of a hybrid application and rulemaking proceeding. See 74 FR 57281, published November 5, 2009. In the application (File No. BMPH-20090831ADM), Pyeatt proposes the substitution of FM Channel 299A for Channel 267A at Madisonville, Texas, and the modification of the construction permit for Station KKLB(FM), Madisonville, to specify operation on Channel 299A.

The Report and Order states that the channel substitutions at Buffalo and Centerville, Texas, serve the public interest because they will accommodate grant of the hybrid application, enabling Station KKLB(FM) to change channels at a tower site located closer to its community of license. The reference coordinates for Channel 278A at Buffalo, Texas, are 31-21-09 NL and 95-59-47 WL. The reference coordinates for Channel 267A at Centerville, Texas, are 31-14-17 NL and 96-05-34 WL. The Report and Order also grants Pyeatt's hybrid application.

Currently, Channel 278A is not listed in the FM Table of Allotments under Centerville, Texas, but is a vacant FM allotment at that community. Channel 278A was allotted at Centerville in MM Docket No. 99-257. See 64 FR 59124, published November 2, 1999. A construction permit for Channel 278A at Centerville was issued to Station KKEV(FM). See File No. BNPH-20060310AA1. As a result of the issuance of the construction permit, Channel 278A at Centerville was removed from the FM Table of Allotments in MB Docket 05-210. See 71 FR 76208, published December 20, 2006. However, the Station KKEV(FM) construction permit was cancelled on May 24, 2009, making the Channel 278A allotment vacant. As stated above, we are substituting Channel 267A for vacant Channel 278A at Centerville to accommodate the Station KKLB(FM) hybrid application.

This document does not contain any information collection requirements subject to the Paperwork Reduction Act of 1995, Public Law 104-13. In addition, therefore, it does not contain any information collection burden ”for small business concerns with fewer than 25 employees,” pursuant to the Small Business Paperwork Relief Act of 2002, Public Law 107-198, see 44 U.S.C. 3506(c)(4).

The Commission will send a copy of this Report and Order in a report to be sent to Congress and the Government Accountability Office pursuant to the Congressional Review Act, see 5 U.S.C. 801(a)(1)(A).

Provisions of the Regulatory Flexibility Act of 1980 do not apply to this proceeding.

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

2. Section 73.202(b), the Table of FM Allotments under Texas, is amended by removing Channel 299A and adding Channel 278A at Buffalo and by adding Channel 267A at Centerville.

Federal Communications Commission.
John A. Karousos,
Assistant Chief, Audio Division, Media Bureau.

[FR Doc. 2010-6019 Filed 3-18-10; 8:45 am]

BILLING CODE 6712-01-S